DEPARTMENT OF VETERANS AFFAIRS

Enhanced-Use Lease for a Mixed-Use Development at the William Jennings Bryan Dorn Department of Veterans Affairs Medical Center in Columbia, South Carolina

AGENCY: Department of Veterans Affairs.

ACTION: Notice of intent to enter into an enhanced-use lease.

SUMMARY: The Secretary of the Department of Veterans Affairs (VA) intends to enter into an enhanced-use lease of approximately 26 acres at the William Jennings Bryan Dorn VA Medical Center in Columbia, South Carolina. The selected lessee will finance, design and construct, manage, maintain and operate a mixed-use development, to include expansion of existing facilities at the University of South Carolina School of Medicine, a new office building, and a new fire/police station for the City of Columbia. The lessee also would be required to provide VA with ground rent payments, or at VA's option, in lieu of a portion of the ground rent, in-kind consideration consisting of clinical/administrative space for use by the VAMC.

FOR FURTHER INFORMATION CONTACT: Alan Hackman, Office of Asset Enterprise Management (004B), Department of Veterans Affairs, 810 Vermont Avenue, NW., Washington, DC 20420, (202) 273-5875.

SUPPLEMENTARY INFORMATION: Title 38 U.S.C. 8161 et seq. states that the Secretary may enter into an enhanced-use lease if he determines that the implementation of a business plan proposed by the Under Secretary for Health for applying the consideration under such a lease to the provision of medical care and services would result in a demonstrable improvement of services to eligible veterans in the geographic service-delivery area within which the property is located. This project meets this requirement.

Approved: August 7, 2007.
R. James Nicholson,
Secretary of Veterans Affairs.

[FR Doc. E7-15923 Filed 8-13-07; 8:45 am]

BILLING CODE 8320-01-P